DEPARTMENT OF TRANSPORTATION

Federal Aviation Administration

14 CFR Part 71

[Docket No. FAA-2023-2192; Airspace Docket No. 23-AEA-19]

RIN 2120-AA66

Amendment of Class D and Class E Airspace; Wilmington, DE

AGENCY: Federal Aviation Administration (FAA), DOT.

ACTION: Final rule; correction.

SUMMARY: A final rule was published in the Federal Register on December 7, 2023, amending Class D airspace and Class E surface airspace for New Castle Airport, Wilmington, DE. This action corrects the Class E legal description for New Castle Airport.

DATES: Effective 0901 UTC, March 21, 2024. The Director of the Federal Register approves this incorporation by reference action under 1 CFR part 51, subject to the annual revision of FAA Order JO 7400.11 and publication of conforming amendments.

FOR FURTHER INFORMATION CONTACT: John Goodson, Operations Support Group, Eastern Service Center, Federal Aviation Administration, 1701 Columbia Avenue, College Park, GA 30337; telephone: (404) 305-5966.

SUPPLEMENTARY INFORMATION:

History

The FAA published a final rule in the Federal Register (88 FR 85094, December 7, 2023) for Doc. No. FAA-2023-2192 is updating the Class D and Class E surface airspace for New Castle Airport, Wilmington, DE, by replacing Notice to Airmen with Notice to Air Missions. After publication, the FAA found the Class E surface description was inadvertently transposed. This action corrects this error.

Correction to the Final Rule

Pursuant to the authority delegated to me, the Class E surface airspace amendment for Castle Airport, Wilmington, DE, in Docket No. FAA-2023-2192, as published in the Federal Register on December 7, 2023 (88 FR 85094), is corrected as follows:

§ 71.1 [Corrected]

On page 85095, in the second column, correct the E2 description for New Castle Airport to read:

AEA DE E2 Wilmington, DE [Amended]

New Castle Airport, DE

(Lat. 39°40′43″ N, long. 75°36′24″ W)

That airspace extending upward from the surface within a 4.2-mile radius of the New Castle Airport; this Class E airspace area is effective during the specific dates and times established in advance by a Notice to Air Missions. The effective date and time will thereafter be continuously published in the Chart Supplement.

Issued in College Park, Georgia, on December 13, 2023.
Lisa E. Burrows,
Manager, Airspace & Procedures Team North, Eastern Service Center, Air Traffic Organization.

[FR Doc. 2023-28135 Filed 12-21-23; 8:45 am]

BILLING CODE 4910-13-P